DEPARTMENT OF EDUCATION

National Institute on Disability and Rehabilitation Research (NIDRR)

AGENCY: Office of Special Education and Rehabilitative Services (OSERS), Department of Education.

ACTION: Request for written input.

SUMMARY: The Assistant Secretary for Special Education and Rehabilitative Services requests written input regarding NIDRR's long-range plan for fiscal years 2010-2014 (the 2010-2014 Plan). The purpose of this solicitation is to obtain ideas from the public on the content and direction of the new NIDRR 2010-2014 Plan.

DATES: We must receive your comments on or before May 22, 2008.

ADDRESSES: Address all written input to Donna Nangle, U.S. Department of Education, 400 Maryland Avenue, SW., room 6029, Potomac Center Plaza, Washington, DC 20202-2700. If you prefer to send your input through the Internet, please submit it at the following Web site http://www.neweditions.net/NIDRRLRP, or use the following e-mail address: NIDRR_Mailbox@ed.gov.

If you submit your written input through the Internet, identify the specific topic of your input in the subject line of your electronic message from among the following: employment outcomes; participation and community living; health and function; technology; and demographics. If you are submitting general input, please use the term “General” in the subject line of your electronic message. Please limit your input to no more than two single-spaced pages. Please submit your input only once to ensure that we do not receive duplicate copies.

Individuals with disabilities may obtain this notice in an alternate format (e.g., Braille, large print, audiotape, or computer diskette) by contacting the person listed under FOR FURTHER INFORMATION CONTACT.

FOR FURTHER INFORMATION CONTACT: Donna Nangle. Telephone: (202) 245-7462 or by e-mail: donna.nangle@ed.gov.

If you use a telecommunications device for the deaf (TDD), you may call the Federal Relay Service (FRS) at 1-800-877-8339.

SUPPLEMENTARY INFORMATION:

Background

As authorized under the Rehabilitation Act of 1973, as amended (Act) (29 U.S.C. 760-762), NIDRR's mission is—

• To generate new knowledge and to promote its effective use to improve the abilities of individuals with disabilities to perform activities of their choice in the community, including the pursuit of employment; and

• To expand society's capacity to provide full opportunities and accommodation for individuals with disabilities.

Pursuant to section 202(h) of the Act (29 U.S.C. 762(h)), the Assistant Secretary for Special Education and Rehabilitative Services periodically publishes a five-year plan that outlines NIDRR's upcoming priorities for rehabilitation research, demonstration projects, training, and related activities, and explains the basis for these priorities. NIDRR's long-range plan for fiscal years 2005-2009 (2005-2009 Plan) was published in the Federal Register on February 15, 2006 (71 FR 8165) and can be accessed on the Internet at the following Web site: http://www.ed.gov/about/offices/list/osers/nidrr/policy.html.

Note: Individuals with disabilities may also obtain a copy of the 2005-2009 Plan in an alternate format (e.g., Braille, large print, audiotape, or computer diskette) by contacting the person listed under FOR FURTHER INFORMATION CONTACT.

NIDRR held a public meeting on March 19, 2008 that was accessible by Webcast via the Internet or by participating in a toll-free teleconference. A transcript and an archive of this Webcast are available at: http://www.tvworldwide.com/events/doed/080319.

Development of the 2010-2014 Plan

NIDRR has begun the process of preparing the 2010-2014 Plan, and is interested in receiving, among other things, suggestions for research topics that are consistent with its mission for fiscal years 2010 through 2014.

As NIDRR works to develop the 2010-2014 Plan, the Assistant Secretary would like feedback from the public that includes, but is not limited to, suggestions for research:

• That would address the current needs of, or emerging issues facing, individuals with disabilities.

• that could help improve employment outcomes for individuals with disabilities.

• that could improve the programs of the Office of Special Education and Rehabilitative Services, including its vocational rehabilitation and independent living programs.

NIDRR is also seeking input on:

• What strategies might be effective in building capacity in the area of disability and rehabilitation research.

• What NIDRR can do to ensure that its research and development activities produce results that can help improve the lives of individuals with disabilities.

Applicable Program Regulations: 34 CFR part 350.

Authority: 29 U.S.C. 762.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 17, 2008.
Tracy R. Justesen,
Assistant Secretary for Special Education and Rehabilitative Services.

[FR Doc. E8-8691 Filed 4-21-08; 8:45 am]

BILLING CODE 4000-01-P